FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 29, 2012.

A. Federal Reserve Bank of New York (Ivan Hurwitz, Vice President) 33 Liberty Street, New York, New York 10045-0001:

1. Muhammad Habib, Zurich, Switzerland; to retain a controlling interest in Maham Beteiligungsgessellschaft AG, Zurich, Switzerland, and thereby indirectly retain control of Habib American Bank, New York, New York.

B. Federal Reserve Bank of Atlanta (Chapelle Davis, Assistant Vice President) 1000 Peachtree Street NE., Atlanta, Georgia 30309:

1. Robert Roschman and the Robert Roschman Revocable Trust, Robert Roschman trustee, all of Fort Lauderdale, Florida; to retain control of Giant Holdings, Inc., and thereby indirectly retain control of Landmark Bank, NA, both in Fort Lauderdale, Florida.

C. Federal Reserve Bank of Kansas City (Dennis Denney, Assistant Vice President) 1 Memorial Drive, Kansas City, Missouri 64198-0001:

1. David L. Spehar, Olathe, Kansas; Charles E. Thacker, Fulton, Illinois; Larry G. Barcus, Rockville, Missouri; John G. Sturtridge, Oro Valley, Arizona; and Keith L. Roberts, Leawood, Kansas; all as a group acting in concert, to acquire control of First Bancshares, Inc., and thereby indirectly acquire control of The First State Bank of Kansas City, Kansas, both in Kansas City, Kansas.

Board of Governors of the Federal Reserve System.
Dated: June 11, 2012.
Robert deV. Frierson,
Deputy Secretary of the Board.

[FR Doc. 2012-14579 Filed 6-13-12; 8:45 am]

BILLING CODE 6210-01-P